DEPARTMENT OF LABOR

Employment and Training Administration

[TA-W-58,408]

United States Sugar Corporation Bryant Mill, Bryant, FL; Notice of Termination of Investigation

Pursuant to section 221 of the Trade Act of 1974, as amended, an investigation was initiated on November 25, 2005 in response to a petition filed by a company official on behalf of workers at United States Sugar Corporation, Bryant Mill, Bryant, Florida.

The petitioner has requested that the petition be withdrawn. Consequently, the investigation has been terminated.

Signed at Washington, DC, this 12th day of December, 2005.
Linda G. Poole,
Certifying Officer, Division of Trade Adjustment Assistance.

[FR Doc. E5-7960 Filed 12-27-05; 8:45 am]

BILLING CODE 4510-30-P